DEPARTMENT OF TRANSPORTATION

Federal Highway Administration

Environmental Impact Statement: Suffolk County, New York

AGENCY: Federal Highway Administration (FHWA), DOT.

ACTION: Notice to Rescind the Record of Decision and the Final Environmental Impact Statement (FEIS).

SUMMARY: The FHWA is issuing this notice to advise the public that the Record of Decision (ROD) and the Final Environmental Impact Statement (FEIS) for the proposed Interstate 495 (Long Island Expressway) Rest Area Upgrade Project between Exits 51 & 52 (eastbound) in the Town of Huntington, Suffolk County, New York (NYSDOT Project Identification Number: 0229.14) are being rescinded.

FOR FURTHER INFORMATION CONTACT: Peter Osborn, Division Administrator, Federal Highway Administration, New York Division, Leo W. O'Brien Federal Building, Suite 719, Clinton Avenue and North Pearl Street, Albany, New York 12207. Telephone (518) 431-4127

SUPPLEMENTARY INFORMATION: The FHWA, as the lead Federal agency, in cooperation with the New York State Department of Transportation (NYSDOT) signed a ROD on August 6, 2007, for the proposed Interstate 495 (Long Island Expressway) Rest Area Upgrade Project between Exits 51 & 52 (eastbound). The proposed project evaluated alternatives for upgrading the existing rest area for cars and trucks located on I-495/LIE eastbound between Exits 51 and 52.

Since the ROD was signed, NYSDOT notified FHWA that Federal funds will not be utilized during the final design and construction of the project. Therefore, FHWA has determined that the ROD and the Final Environmental Impact Statement dated May 21, 2007, will be rescinded since there will be no Federal action, and the requirements of the National Environmental Policy Act pursuant to 42 U.S.C. 4321, et seq. and 23 Code of Federal Regulations 771 no longer apply.

Comments and questions concerning the proposed action should be directed to FHWA at the address provided above.

(Catalog of Federal Domestic Assistance Program Number 20.205, Highway Planning and Construction. The regulations implementing Executive Order 12372 regarding intergovernmental consultation on Federal programs and activities apply to this program.)

Authority: 23 U.S.C. 315; 23 CFR 771.123.

Issued on: September 12, 2016.
Peter Osborn,
Division Administrator, Federal Highway Administration, Albany, New York.

[FR Doc. 2016-22698 Filed 9-20-16; 8:45 am]

BILLING CODE 4910-22-P